DEPARTMENT OF ENERGY

Western Area Power Administration

Call for 2025 Resource Pool Applications

AGENCY: Western Area Power Administration, DOE.

ACTION: Notice of the Sierra Nevada Region's call for 2025 Resource Pool applications.

SUMMARY: The Department of Energy (DOE), Western Area Power Administration. (WAPA), a Federal power marketing administration of DOE, published its 2025 Power Marketing Plan (Marketing Plan) for the Sierra Nevada Customer Service Region (SNR) in the Federal Register on August 15, 2017. The Marketing Plan specifies the terms and conditions under which WAPA will market power from the Central Valley Project (CVP) and the Washoe Project beginning January 1, 2025, and continuing through December 31, 2054. As required by the Marketing Plan, WAPA is issuing a call for applications for SNR's 2025 Resource Pool. Preference entities who wish to apply for a new allocation of power from WAPA's SNR must submit a formal application using the Applicant Profile Data (APD) form and must meet the Eligibility and Allocation Criteria described in the Marketing Plan. In addition, if a customer that currently has an allocation of power wishes to apply for an additional power allocation, it also must submit an application using the APD form and meet the Eligibility and Allocation Criteria. The General Criteria, and Contract Principles as defined in the Marketing Plan will apply to new allottees and existing customers.

DATES: Applications must be received by 4 p.m., PDT, on May 7, 2018. WAPA will accept applications through its on-line APD form, electronically, or by certified mail (or its equivalent). Applications sent by regular mail will be accepted if postmarked at least 3 days before May 7, 2018, and received no later than May 10, 2018. WAPA will not consider applications that are not received by the prescribed dates.

ADDRESSES: Entities interested in applying for an allocation of WAPA power may submit an application on-line at https://www.wapa.gov/regions/SN/PowerMarketing/Pages/2025-Program.aspx, or may complete the APD form also available at https://www.wapa.gov/regions/SN/PowerMarketing/Pages/2025-Program.aspx and mail it to Ms. Sandee Peebles, Public Utilities Specialist, Sierra Nevada Customer Service Region, Western Area Power Administration, 114 Parkshore Drive, Folsom, CA 95630. APD forms with an e-signature may be emailed to 2025RPApps@wapa.gov. The e-signature must be received by WAPA within the time required in the DATES section. If an entity submits an APD form via the web page or email and an e-signature is not available, the applicant must mail the signed APD form signature page to the physical address above, or scan the signed page and send it via email to 2025RPApps@wapa.gov. WAPA will publish a notice of Proposed Allocations in the Federal Register after evaluating all applications.

FOR FURTHER INFORMATION CONTACT: Ms. Sandee Peebles, Public Utilities Specialist, Sierra Nevada Customer Service Region, Western Area Power Administration, 114 Parkshore Drive, Folsom, CA 95630, telephone (916) 353-4454, email peebles@wapa.gov.

SUPPLEMENTARY INFORMATION:

Background

The Marketing Plan describes how SNR will market its power resources beginning January 1, 2025, through December 31, 2054. As part of the Marketing Plan, WAPA will create the 2025 Resource Pool, which offers no less than 2 percent of SNR's marketable power resources. The Resource Pool percentage may be increased as discussed in the Marketing Plan. WAPA, at its discretion, will allocate a percentage of the 2025 Resource Pool to selected applicants that meet the Eligibility Criteria defined in the Marketing Plan. This allocation percentage will be multiplied by the 2025 Resource Pool percentage to determine the applicant's percentage of the Base Resource as described in the Marketing Plan. WAPA will publish a notice of Proposed Allocations in the Federal Register once those allocations have been determined. The public will have an opportunity to comment on the Proposed Allocations. After reviewing the comments, WAPA will publish a notice of Final Allocations in the Federal Register. Once the final 2025 Resource Pool allocations have been published, WAPA will work with the new allottees to develop a customized product to meet their needs as requested by such allottees and as more fully described in the Marketing Plan.

Call for 2025 Resource Pool Applications

Applications for Power

Through this Federal Register notice, WAPA formally requests applications from qualified preference entities wishing to purchase power from SNR from January 1, 2025, through December 31, 2054. Existing customers do not need to submit an application unless they are seeking to increase their allocation. All applicants must submit applications using the APD form, so that WAPA has a uniform basis upon which to evaluate the applications. To be considered, applicants must meet the Eligibility Criteria contained in the Marketing Plan and must submit a completed APD application form by the deadline specified in the DATES section. To ensure full consideration is given to all applicants, WAPA will not consider requests for power or applications submitted before publication of this Federal Register notice or after the deadlines specified in the DATES section.

Applicant Profile Data

The APD has been approved by the Office of Management and Budget under Control No. 1910-5136. Applications may be completed on-line on WAPA's web page at https://www.wapa.gov/regions/SN/PowerMarketing/Pages/2025-Program.aspx or submitted by mail, as described in the ADDRESSES section. APD forms are available on WAPA's web page or by request to the person listed in the FOR FURTHER INFORMATION CONTACT section. It is the applicant's responsibility to ensure it submits its application in a timely manner so WAPA receives the applications before the date and time stated in the DATES section.

Applicants must provide all information requested on the APD form, if available and applicable. Please indicate if the requested information is not applicable or not available. WAPA may request, in writing, additional information from any applicant whose application is deficient. The applicant will have 10 business days from the postmark date on WAPA's request to provide the information. In the event an applicant fails to provide all information to WAPA, the application will not be considered.

The information in the APD form should be answered as if prepared by the entity/organization seeking the allocation of Federal power.

The information collected under this process will not be part of a system of records covered by the Privacy Act and may be available under the Freedom of Information Act. If you are submitting any confidential or business sensitive information, please mark such information before submitting your application.

Recordkeeping Requirement

If WAPA accepts an application and the applicant receives an allocation of Federal power, the applicant must keep all information related to the APD for a period of 3 years after signing a contract for Federal power. There is no recordkeeping requirement for unsuccessful applicants who do not receive an allocation of Federal power.

WAPA has obtained Office of Management and Budget Clearance Number 1910-5136 for collection of the above information. The APD is collected to enable WAPA to properly perform its function of marketing limited amounts of Federal hydropower. The data supplied will be used by WAPA to evaluate who will receive an allocation of Federal power.

Contracting Process

After WAPA has evaluated the applications, WAPA will publish a notice of Proposed Allocations in the Federal Register. The public will have an opportunity to comment on the Proposed Allocations. After reviewing the comments, WAPA will publish a notice of Final Allocations in the Federal Register. WAPA will begin the contracting process with the new allottees after publishing the final allocations in the Federal Register, tentatively scheduled for early 2019. WAPA will offer a pro-forma contract for power allocated under the Final 2025 Resource Pool Allocations. Allottees will be required to execute a contract within 6 months of the contract offer. Electric service contracts will be effective upon WAPA's signature, and service will begin on January 1, 2025 and continue through December 31, 2054.

Authorities

SNR's 2025 Power Marketing Plan, published in the Federal Register (82 FR 38675) on August 15, 2017, was established pursuant to the Department of Energy Organization Act (42 U.S.C. 7101-7352); the Reclamation Act of June 17, 1902 (ch. 1093, 32 Stat. 388) as amended and supplemented by subsequent enactments, particularly section 9(c) of the Reclamation Project Act of 1939 (43 U.S.C. 485(c)); and other acts specifically applicable to the projects involved. This action falls within the Marketing Plan and, thus, is covered by the same authority.

Regulatory Procedure Requirements

Environmental Compliance

In compliance with the National Environmental Policy Act (NEPA) (42 U.S.C. 4321-4370), Council on Environmental Quality NEPA implementing regulations (40 CFR parts 1500-1508), and DOE NEPA implementing regulations (10 CFR part 1021), WAPA completed a Categorical Exclusion (CX). This NEPA review identified and analyzed environmental effects related to the Marketing Plan. This action falls within the Marketing Plan and, thus, is covered by the CX.

Review Under the Paperwork Reduction Act

In accordance with the Paperwork Reduction Act of 1980 (44 U.S.C. 3501, et seq.), WAPA has received approval from the Office of Management and Budget for the collection of customer information in this rule, under control number 1910-5136.

Notwithstanding any other provision of law, no person is required to respond to a Federal collection of information unless it displays a valid OMB control number.

Determination Under Executive Order 12866

WAPA has an exemption from centralized regulatory review under Executive Order 12866; accordingly, no clearance of this Federal Register notice by the Office of Management and Budget is required.

Dated: February 20, 2018.
Mark A. Gabriel,
Administrator.

[FR Doc. 2018-04672 Filed 3-7-18; 8:45 am]

BILLING CODE 6450-01-P